DEPARTMENT OF COMMERCE

National Oceanic and Atmospheric Administration

Proposed Information Collection; Comment Request; Coastal Zone Management Act Walter B. Jones and NOAA Excellence Awards

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 28, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patmarie Nedelka, (301) 713-3155 ext. 127 or Patmarie.Nedelka@noaa.gov.

SUPPLEMENTARY INFORMATION:

I. Abstract

The 1990 reauthorization of the Coastal Zone Management Act (CZMA) authorized an awards program to “implement a program to promote excellence in coastal zone management by identifying and acknowledging outstanding accomplishments in the field.” As authorized in Section 314 of the CZMA, the Walter B. Jones Awards recognize three categories of excellence: Coastal Steward of the Year, Excellence in Local Government, and Excellence in Coastal and Marine Graduate Study. The CZMA authorizes NOAA to conduct public ceremonies to acknowledge such awards, which allows NOAA to fund invitational travel and purchase awards for the Jones Awards.

In conjunction with the Walter B. Jones Awards, NOAA instituted several additional categories of awards, to recognize additional contributions to ocean and coastal resource management, including Volunteer of the Year, Non-governmental Organization of the Year, Excellence in Promoting Cultural and Ethnic Diversity (in honor of Secretary Ronald Brown), Excellence in Business Leadership, and the Susan Snow Cotter Award for Excellence in Ocean and Coastal Resource (NOAA re-named this award in honor of Susan Snow Cotter in 2007).

As part of conducting the awards program, NOAA will distribute a “Call for Nominations” to representatives from Federal, state, local and non-governmental organizations and Members of Congress that work in, are knowledgeable of or benefit from, ocean and coastal resource management.

II. Method of Collection

Respondents may submit their nominations by direct mail, email, and fax.

III. Data

OMB Control Number: None.

Form Number: None.

Type of Review: Regular submission.

Affected Public: State, Local, or Tribal Government; not-for-profit institutions; Members of Congress.

Estimated Number of Respondents: 25.

Estimated Time Per Response: Complete nomination form—30 minutes.

Estimated Total Annual Burden Hours: 13.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 26, 2009.
Gwellnar Banks,
Management Analyst, Office of the Chief Information Officer.

[FR Doc. E9-12498 Filed 5-28-09; 8:45 am]

BILLING CODE 3510-08-P